DEPARTMENT OF EDUCATION

National Institute on Disability and Rehabilitation Research

AGENCY: Office of Special Education and Rehabilitative Services, Department of Education.

ACTION: Notice of proposed priority.

SUMMARY: The Assistant Secretary for Special Education and Rehabilitative Services proposes a priority for Health Services Research projects under the Disability and Rehabilitation Research Projects (DRRP) Program of the National Institute on Disability and Rehabilitation Research (NIDRR). The Assistant Secretary may use this priority for competitions in fiscal year (FY) 2002. We take this action to focus research attention on an identified national need. We intend this priority to improve rehabilitation services and outcomes for individuals with disabilities.

DATES: We must receive your comments on or before June 28, 2002.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in room 3412, Switzer Building, 330 C Street, SW., Washington, DC, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Disability and Rehabilitation Research Projects (DRRP) Program

The purpose of the DRRP Program is to plan and conduct research, demonstration projects, training, and related activities that help (1) to maximize the full inclusion and integration of individuals with disabilities into society, and (2) to improve the effectiveness of services authorized under the Rehabilitation Act of 1973, as amended (the Act).

This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We will announce the final priority in a notice in the Federal Register. We will determine the final priority after considering responses to this notice and other information available to the Department. This notice does not preclude us from proposing or funding additional priorities, subject to meeting applicable rulemaking requirements.

Note: This notice does not solicit applications. If we choose to use this proposed priority, we invite applications through a notice in the Federal Register. When inviting applications we designate the priority as absolute, competitive preference, or invitational. The effect of each type of priority follows:

Absolute Priority

Under an absolute priority, we consider only applications that meet the priority (34 CFR 75.105(c)(3)).

Competitive Preference Priority

Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational Priority

Under an invitational priority, we are particularly interested in applications that meet the invitational priority. However, we do not give an application that meets the priority a competitive or absolute preference over other applications (34 CFR 75.105(c)(1)).

Priority

Background

Access to high quality health care, including preventive, acute, and long-term care, is critical to the quality of life and independent living of individuals with disabilities. Research on the organization, delivery, and financing of health services has not traditionally focused on the needs of individuals with disabilities. With this proposed priority, NIDRR intends to examine emerging issues that have an impact on access to health services by individuals with disabilities. We have identified the following issues as the focus of needed research: access to community-based health services; the impact of prospective payment on access to medical rehabilitation services; and ways in which using quality indicators in assessments of services may affect delivery of health services to individuals with disabilities.

You may obtain additional information about the background of this priority by contacting the person listed under FOR FURTHER INFORMATION CONTACT.

Proposed Priority—Health Services Research Projects

This proposed priority is intended to improve delivery of health services to individuals with disabilities. We encourage applicants to propose research projects under one of the following specific topic areas:

(1) Availability and Access to Community-Based Health Services. To be funded under the priority, a project would be required to:

(a) Investigate the availability and accessibility of community-based health services for individuals with disabilities who move from institutional care to community living or who are at risk for institutional care;

(b) Document the extent to which access to appropriate health services, including home-health, is a component of State task force recommendations regarding transitioning of individuals from institutional to community settings; and

(c) Evaluate the role of accessible community-based mental health services in the successful integration of individuals with long-term mental illness into community settings.

(2) Impact of the Prospective Payment System for Medical Rehabilitation. To be funded under the priority, a project would be required to:

(a) Evaluate the impact of the prospective payment system for medical rehabilitation on access to medical rehabilitation services by individuals with disabilities, examining the impact on settings, services, and length of stay; and

(b) Identify the impact of multiple, health-related conditions, commonly called co-morbidities, on classification and reimbursement in the medical rehabilitation prospective payment system.

(3) Analysis of Quality Indicators for Assessing Health Services Provided to Individuals with Disabilities. To be funded under the priority, a project would be required to:

(a) Conduct an assessment of the use of quality indicators in both the private and public sectors to determine the extent to which the needs of individuals with disabilities are reflected in these indicators;

(b) Examine the relationship of function and disability in defining the population of individuals with disabilities to whom the indicators are applied; and

(c) Determine how individuals with disabilities, payers, and providers use information from quality assessment of medical rehabilitation services.

In addition, each project would be required to:

• Consult with the NIDRR-funded National Center for the Dissemination of Disability Research (NCDDR) to develop and implement, in the first year of the grant, a plan to disseminate the DRRP's research results to: disability organizations, individuals with disabilities or their family members or both, researchers, providers, and policymakers; and

• Ensure the participation of individuals with disabilities in all phases of the research and dissemination activities.

Applicable Program Regulations

34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability Rehabilitation Research Project)

Program Authority: 29 U.S.C. 762(g) and 764(b).

Dated: May 15, 2002.
Loretta L. Petty,
Acting Assistant Secretary for Special Education and Rehabilitative Services.

[FR Doc. 02-13402 Filed 5-28-02; 8:45 am]

BILLING CODE 4000-01-P